DEPARTMENT OF THE TREASURY

Internal Revenue Service

Open Meeting of the Taxpayer Advocacy Panel Taxpayer Assistance Center Project Committee.

AGENCY: Internal Revenue Service (IRS), Treasury.

ACTION: Notice of change of meeting date.

SUMMARY: In the Federal Register notice that was originally published on December 28, 2015, (Volume 80, Number 248, Page 80880), the meeting date is now changed. The new dates for the meeting are, Thursday, March 3, 2016 and Friday, March 4, 2016.

DATES: The meeting will be held Thursday, March 3, 2016 and Friday, March 4, 2016.

FOR FURTHER INFORMATION CONTACT: Otis Simpson at 1-888-912-1227 or 202-317-3332.

SUPPLEMENTARY INFORMATION: Notice is hereby given pursuant to Section 10(a)(2) of the Federal Advisory Committee Act, 5 U.S.C. App. (1988) that an open meeting of the Taxpayer Advocacy Panel's Taxpayer Assistance Center Project Committee will be held Thursday, March 3, 2016, from 8:00 a.m. to 4:30 p.m. Central Time and Friday, March 4, 2016, from 8:00 a.m. until 12:00 p.m. Central Time at the IRS Office, 55 North Robinson Avenue, Oklahoma City, OK 73102. The public is invited to make oral comments or submit written statements for consideration. Due to limited time and structure of meeting, notification of intent to participate must be made with Otis Simpson. For more information please contact Otis Simpson at 1-888-912-1227 or 202-317-3332, or write TAP Office, 1111 Constitution Ave. NW., Room 1509, Washington, DC 20224 or contact us at the Web site: http://www.improveirs.org. The agenda will include various IRS issues.

Dated: January 7, 2016.
Antoinette Ross,
Acting Director, Taxpayer Advocacy Panel.

[FR Doc. 2016-00556 Filed 1-13-16; 8:45 am]

BILLING CODE 4830-01-P